DEPARTMENT OF COMMERCE

International Trade Administration

(A-583-830)

Stainless Steel Plate in Coils from Taiwan; Notice of Extension of Time Limits for Final Results of Antidumping Duty Administrative Review

AGENCY: Import Administration, International Trade Administration, Department of Commerce.

EFFECTIVE DATE: October 5, 2005.

FOR FURTHER INFORMATION CONTACT: Elizabeth Eastwood or Nichole Zink, AD/CVD Operations, Office 2, Import Administration, International Trade Administration, U.S. Department of Commerce, 14th Street and Constitution Avenue, NW, Washington, DC 20230; telephone: (202) 482-3874 and (202) 482-0049, respectively.

SUPPLEMENTARY INFORMATION:

Background

The Department of Commerce (the Department) published an antidumping duty order on stainless steel plate in coils (SSPC) from Taiwan on May 21, 1999 (See Antidumping Duty Orders; Certain Stainless Steel Plate in Coils From Belgium, Canada, Italy, the Republic of Korea, South Africa, and Taiwan, 64 FR 27756). On June 30, 2004, the Department published a notice of initiation of an administrative review of the order on SSPC from Taiwan for the period May 1, 2003, through April 30, 2004. See 69 FR 39409. The respondents in this administrative review are: Ta Chen Stainless Pipe Co., Ltd.; Yieh United Steel Corporation; China Steel Corporation; Tang Eng Iron Works; PFP Taiwan Co., Ltd.; Yieh Loong Enterprise Co., Ltd.; Yieh Trading Co; Goang Jau Shing Enterprise Co., Ltd.; Yieh Mau Corporation; Chien Shing Stainless Co., Ltd.; East Tack Enterprise Co., Ltd.; Shing Shong Ta Metal Ind. Co., Ltd.; Sinkang Industries, Ltd.; Chang Mien Industries Co., Ltd.; and Chain Chin Industrial Co., Ltd. On June 7, 2005, the Department published in the Federal Register the notice of its preliminary intent to rescind this review. See Stainless Steel Plate in Coils from Taiwan; Preliminary Rescission of Antidumping Duty Administrative Review, 70 FR 33083. A final decision is currently due no later than October 5, 2005.

Extension of the Time Limit for Final Results of Administrative Review

Section 751(a)(3)(A) of the Tariff Act of 1930, as amended (the Act), requires the Department to make a final determination in an administrative review within 120 days after the date on which the preliminary determination is published. However, if it is not practicable to complete the review within this time period, section 751(a)(3)(A) of the Act allows the Department to extend the time limit for the final results to 180 days (or 300 days if the Department does not extend the time limit for the preliminary results) from the date of publication of the preliminary results.

In accordance with section 751(a)(3)(A) of the Act, and 19 CFR 351.213(h)(2), the Department determines that it is not practicable to complete the review within 120 days because we are currently considering whether to solicit additional data and/or comments regarding shipments of subject merchandise during the period of review. Because it is not practicable to complete this administrative review within the time limit mandated by section 751(a)(3)(A) of the Act and 19 CFR 351.213(h)(2), the Department is fully extending the time limit for completion of the final results of this administrative review to 180 days, until December 4, 2005. However, December 4, 2005, falls on Sunday, and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the final results is December 5, 2005.

This notice is issued and published in accordance with section 751(a)(3)(A) of the Act and section 351.213(h)(2) of the Department's regulations.

Dated: September 29, 2005.
Barbara E. Tillman,
Acting Deputy Assistant Secretary for Import Administration.

[FR Doc. E5-5455 Filed 10-4-05; 8:45 am]

BILLING CODE 3510-DS-S